NATIONAL SCIENCE FOUNDATION

Proposal Review Panel for Materials Research; Notice of Meeting

In accordance with the Federal Advisory Committee Act (Pub. L. 92-463 as amended), the National Science Foundation announces the following meeting:

Name: Proposal Review Panel for Materials Research—The Science of Learning Center (V151597) Spatial Intelligence and Learning Center (SILC), University of Chicago Site Visit (#1203).

Dates and Times:

May 4, 2015; 6:00 p.m.-10:00 p.m.

May 5, 2015; 7:30 a.m.-8:30 p.m.

May 6, 2015; 7:30 a.m.-4:00 p.m.

Place: University of Chicago, Chicago, IL 60637.

Type of Meeting: Part Open.

Contact Person: Dr. Soo-Siang Lim, Program Director, Science of Learning Centers Program, Division of Behavioral and Cognitive Science, Room 995, National Science Foundation, 4201 Wilson Boulevard, Arlington, VA 22230, Telephone (703) 292-7878.

Purpose of Meeting: To provide advice and recommendations concerning further support of the SLC program SILC at University of Chicago.

Agenda

Wednesday, May 4, 2015

6:00 p.m.-10:00 p.m. Closed—Briefing of panel

Thursday, May 5, 2015

7:30 a.m.-5:30 p.m. Open—Review of the MRSEC

5:30 p.m.-6:00 p.m. Closed—Executive Session

6:45 p.m.-8:30 p.m. Open—Dinner

Friday, May 6, 2015

7:30 a.m.-10:00 a.m. Closed—Executive Session

10:00 a.m.-4:00 p.m. Closed—Executive Session, Draft and Review Report

Reason for Closing: The work being reviewed during this site visit may include information of a proprietary or confidential nature, including technical information; financial data, such as salaries and personal information concerning individuals associated with the SILC. These matters are exempt under 5 U.S.C. 552 b(c), (4) and (6) of the Government in the Sunshine Act.

Dated: March 10, 2015.
Suzanne Plimpton,
Acting, Committee Management Officer.

[FR Doc. 2015-05748 Filed 3-12-15; 8:45 am]

BILLING CODE 7555-01-P